DEPARTMENT OF JUSTICE

[CPCLO Order No. 05-2018]

Privacy Act of 1974; Systems of Records

AGENCY: Criminal Division, United States Department of Justice.

ACTION: Notice of a new system of records.

SUMMARY: Pursuant to the Privacy Act of 1974 and Office of Management and Budget (OMB) Circular No. A-108, notice is hereby given that the Criminal Division, a component within the United States Department of Justice (DOJ or Department), has established a new system of records titled “Gambling Device Registration System Records,” JUSTICE/CRM-030. The Criminal Division proposes to establish this system of records to manage gambling device registration forms in accordance with the Gambling Devices Act of 1962.

DATES: In accordance with 5 U.S.C. 552a(e)(4) and (11), this notice is effective upon publication, subject to a 30-day period in which to comment on the routine uses, as described below. Please submit any comments by September 24, 2018.

ADDRESSES: The public, OMB, and Congress are invited to submit any comments by mail to the United States Department of Justice, Office of Privacy and Civil Liberties, ATTN: Privacy Analyst, National Place Building, 1331 Pennsylvania Avenue NW, Suite 1000, Washington, DC 20530; by facsimile at 202-307-0693; or by email at privacy.compliance@usdoj.gov. To ensure proper handling, please reference the above CPCLO Order No. on your correspondence.

FOR FURTHER INFORMATION CONTACT: Amanda Marchand Jones, Chief, FOIA/PA Unit, Criminal Division, Suite 1127, 1301 New York Avenue NW, Washington, DC 20530; phone at (202) 616-0307; facsimile at (202) 514-6117.

SUPPLEMENTARY INFORMATION: The Gambling Devices Act of 1962, 15 U.S.C. 1171-1178, requires any person or entity engaged in activities involving gambling devices, their subassemblies, or constituent parts, to register annually with the Attorney General. Registration is required when the applicant's activities affect interstate or foreign commerce and involve manufacturing, repairing, reconditioning, buying, selling, leasing, using, or making a gambling device available for use by others. Registration is to be requested in writing each calendar year prior to engaging in business and is effective on the date all required information is received at the Department. To facilitate the registration requirements, the Criminal Division has created a “Request for Registration” form that can be submitted electronically to the Criminal Division. Upon completion, the Criminal Division is provided with the information needed for registration.

The Criminal Division's Gambling Device Registration System will primarily maintain these registration records. Specifically, the Gambling Device Registration System will: Centralize, control, track, and maintain gambling device registration records maintained by the Department and required by the Gambling Devices Act of 1962; serve as the public interface for registrants to submit or renew gambling device registrations; allow the Criminal Division, Office of Enforcement Operations, to validate the information against previous submissions; and serve as the official record of the registration on behalf of the Attorney General.

In accordance with 5 U.S.C. 552a(r), the Department has provided a report to OMB and Congress on this new system of records.

Dated: July 16, 2018.
Peter A. Winn,
Acting Chief Privacy and Civil Liberties Officer, United States Department of Justice.

JUSTICE/CRM-030

SYSTEM NAME AND NUMBER:

Gambling Device Registration System Records, JUSTICE/CRM-030

SECURITY CLASSIFICATION:

Unclassified.

SYSTEM LOCATION:

Access to these electronic records may occur from all Department locations that the Criminal Division operates or that support Criminal Division operations, including but not limited to, 950 Pennsylvania Avenue NW, Washington, DC 20530. Some or all system information may also be duplicated at other locations where the Department has granted direct access to support Criminal Division operations, system backup, emergency preparedness, and/or continuity of operations. To determine the location of particular Gambling Device Registration System records, contact the system manager using the contact information listed in the “SYSTEM MANAGER(S)” paragraph, below.

SYSTEM MANAGER(S):

Director, Office of Enforcement Operations, Criminal Division, 950 Pennsylvania Avenue NW, Washington, DC 20530; telephone: 202-514-6809; email: Gambling.Registration@usdoj.gov.

AUTHORITY FOR MAINTENANCE OF THE SYSTEM:

Gambling Devices Act of 1962, 15 U.S.C. 1171-1178; 28 CFR part 3, Gambling Devices.

PURPOSE(S) OF THE SYSTEM:

The purpose of this system of records is to: centralize, control, track, and maintain registration records maintained by the Department and required by the Gambling Devices Act of 1962; serve as the public interface for registrants to submit or renew gambling device registrations; allow the Criminal Division, Office of Enforcement Operations, to validate the information against previous submissions; and serve as the official record of the registration on behalf of the Attorney General.

CATEGORIES OF INDIVIDUALS COVERED BY THE SYSTEM:

The Gambling Device Registration System collects and maintains information on the owner, agent, and/or corporate officers who are engaged in: manufacturing gambling devices, if the activities of such business in any way affect interstate or foreign commerce; repairing, reconditioning, buying, selling, leasing, using, or making available for use by others any gambling device, if in such business he or she sells, ships, or delivers any such device knowing that it will be introduced into interstate or foreign commerce; or repairing, reconditioning, buying, selling, leasing, using, or making available for use by others any gambling device, if in such business he or she buys or receives any such device knowing that it has been transported in interstate or foreign commerce.

This system of records will also collect and maintain audit log information on the DOJ employees who access the Gambling Device Registration System.

CATEGORIES OF RECORDS IN THE SYSTEM:

The Gambling Device Registration System contains gambling device information, information regarding the individual person, agency, or corporation that owns and/or registers the gambling device, and DOJ employee information. Such information includes, but is not limited to:

(A) The gambling device registrant's name and any trade name under which the registrant does business, and if a company or corporation, the names and titles of the principal officers;

(B) The address of the place of business of the registrant in any state or possession of the United States;

(C) The address in a state or a possession of the United States where records and supporting documentation statutorily required to be maintained by the registrant may be viewed;

(D) Each gambling activity in which the registrant intends to engage during the calendar year;

(E) Information collected to effectuate necessary communications with the registrant or historical record-keeping, including: name of the agent/owner completing the form; contact phone number for the registrant; and contact email address for the registrant;

(F) Effective date of the registration;

(G) Confirmation letter date for the registration;

(H) Previous registrations by the same registrant;

(I) Department of Justice Records Number (DJ Number), which also serves as a Registrant Number and is assigned by the System; and

(J) Audit log, access, and user activity information from system users.

RECORD SOURCE CATEGORIES:

Records contained in this system of records are derived from information provided directly by the owner, agent, and/or corporate officers who register devices in accordance with the Gambling Devices Act of 1962, or from the DOJ employee or device that accesses the Gambling Device Registration System.

ROUTINE USES OF RECORDS MAINTAINED IN THE SYSTEM, INCLUDING CATEGORIES OF USERS AND THE PURPOSES OF SUCH USES:

In addition to those disclosures generally permitted under 5 U.S.C. 552a(b), all or a portion of the records or information contained in this system of records may be disclosed as a routine use pursuant to 5 U.S.C. 552a(b)(3) under the circumstances or for the purposes described below, to the extent such disclosures are compatible with the purposes for which the information was collected:

(A) To any criminal, civil, or regulatory law enforcement authority (whether Federal, state, local, territorial, tribal, foreign, or international) where the information is relevant to the recipient entity's law enforcement responsibilities.

(B) Where a record, either alone or in conjunction with other information, indicates a violation or potential violation of law—criminal, civil, or regulatory in nature—the relevant records may be referred to the appropriate Federal, state, local, territorial, tribal, or foreign law enforcement authority or other appropriate entity charged with the responsibility for investigating or prosecuting such violation or charged with enforcing or implementing such law.

(C) To complainants and/or victims to the extent necessary to provide such persons with information and explanations concerning the progress and/or results of the investigation or case arising from the matters of which they complained and/or of which they were a victim.

(D) To any person or entity that the Department of Justice has reason to believe possesses information regarding a matter within the jurisdiction of the Department of Justice, to the extent deemed to be necessary by the Department of Justice in order to elicit such information or cooperation from the recipient for use in the performance of an authorized activity.

(E) In an appropriate proceeding before a court, grand jury, or administrative or adjudicative body, when the Department of Justice determines that the records are arguably relevant to the proceeding; or in an appropriate proceeding before an administrative or adjudicative body when the adjudicator determines the records to be relevant to the proceeding.

(F) To an actual or potential party to litigation or the party's authorized representative for the purpose of negotiation or discussion of such matters as settlement, plea bargaining, or informal discovery proceedings.

(G) To the news media and the public, including disclosures pursuant to 28 CFR 50.2, unless it is determined that release of the specific information in the context of a particular case would constitute an unwarranted invasion of personal privacy.

(H) To contractors, grantees, experts, consultants, students, and others performing or working on a contract, service, grant, cooperative agreement, or other assignment for the Federal Government, when necessary to accomplish an agency function related to this system of records.

(I) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(J) To appropriate officials and employees of a Federal agency or entity that requires information relevant to a decision concerning the hiring, appointment, or retention of an employee; the assignment, detail, or deployment of an employee; the issuance, renewal, suspension, or revocation of a security clearance; the execution of a security or suitability investigation; the letting of a contract, or the issuance of a grant or benefit.

(K) To a former employee of the Department for purposes of: responding to an official inquiry by a Federal, state, or local government entity or professional licensing authority, in accordance with applicable Department regulations; or facilitating communications with a former employee that may be necessary for personnel-related or other official purposes where the Department requires information and/or consultation assistance from the former employee regarding a matter within that person's former area of responsibility.

(L) To Federal, state, local, territorial, tribal, foreign, or international licensing agencies or associations which require information concerning the suitability or eligibility of an individual for a license or permit.

(M) To a Member of Congress or staff acting upon the Member's behalf when the Member or staff requests the information on behalf of, and at the request of, the individual who is the subject of the record.

(N) To the National Archives and Records Administration for purposes of records management inspections conducted under the authority of 44 U.S.C. 2904 and 2906.

(O) To appropriate agencies, entities, and persons when (1) the Department suspects or has confirmed that there has been a breach of the system of records; (2) the Department has determined that as a result of the suspected or confirmed breach there is a risk of harm to individuals, the Department (including its information systems, programs, and operations), the Federal Government, or national security; and (3) the disclosure made to such agencies, entities, and persons is reasonably necessary to assist in connection with the Department's efforts to respond to the suspected or confirmed breach or to prevent, minimize, or remedy such harm.

(P) To another Federal agency or Federal entity, when the Department determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

(Q) To any agency, organization, or individual for the purpose of performing authorized audit or oversight operations of the Criminal Division and meeting related reporting requirements.

(R) To such recipients and under such circumstances and procedures as are mandated by Federal statute or treaty.

POLICIES AND PRACTICES FOR STORAGE OF RECORDS:

Records are maintained in both hard copy and electronic format. Hard-copy, paper format records are stored in filing cabinets in a secure room. Electronic data records are stored in electronic media via a configuration of client/servers and personal computers. Records are stored in accordance with applicable executive orders, statutes, and agency implementing regulations.

POLICIES AND PRACTICES FOR RETRIEVAL OF RECORDS:

Files and automated data are retrieved by name of a registrant, trade name under which the registrant does business, the names and title(s) of the principal officer(s) of a registrant corporation, or the assigned DJ Number.

POLICIES AND PRACTICES FOR RETENTION AND DISPOSAL OF RECORDS:

Records in this system are retained and disposed of in accordance with the schedule approved by the Archivist of the United States, Job Number N1-060-08-012.

ADMINISTRATIVE, TECHNICAL, AND PHYSICAL SAFEGUARDS:

Both electronic and paper records are safeguarded in accordance with appropriate laws, rules, and policies, including Department and Criminal Division policies. The records are protected by physical security methods and dissemination/access controls. Direct access is controlled and limited to approved personnel with an official need for access to perform their duties. Paper files are stored: (1) In a secure room with controlled access; (2) in locked file cabinets; and/or (3) in other appropriate GSA approved security containers. Information systems and electronic records are protected by physical, technical, and administrative safeguards. Records are located in a building with restricted access and are kept in a locked room with controlled access or are safeguarded with approved encryption technology. The use of multifactor authentication is required to access electronic systems. Information may be transmitted to routine users on a need to know basis in a secure manner and to others upon verification of their authorization to access the information and their need to know. Internet connections are protected by multiple firewalls. Security personnel conduct periodic vulnerability scans using DOJ-approved software to ensure security compliance and security logs are enabled for all computers to assist in troubleshooting and forensics analysis during incident investigations.

RECORD ACCESS PROCEDURES:

All requests for access to records must be in writing and should be addressed to the Criminal Division, FOIA/PA Unit, Suite 1127, 1301 New York Avenue NW, Washington, DC 20530-0001, or emailed to crm.foia@usdoj.gov. The request should be clearly marked “Privacy Act Access Request.” The request must describe the records sought in sufficient detail to enable Department personnel to locate them with a reasonable amount of effort. The request must include a general description of the records sought and must include the requester's full name, current address, and date and place of birth. The request must be signed and either notarized or submitted under penalty of perjury. Some information may be exempt from the access provisions as described in the “EXEMPTIONS PROMULGATED FOR THE SYSTEM” paragraph, below. An individual who is the subject of a record in this system of records may access those records that are not exempt from access. A determination whether a record may be accessed will be made at the time a request is received.

Although no specific form is required, you may obtain forms for this purpose from the FOIA/Privacy Act Mail Referral Unit, United States Department of Justice, 950 Pennsylvania Avenue NW, Washington, DC 20530.

More information regarding the Department's procedures for accessing records in accordance with the Privacy Act can be found at 28 CFR part 16 Subpart D, “Protection of Privacy and Access to Individual Records Under the Privacy Act of 1974.”

CONTESTING RECORD PROCEDURES:

Individuals seeking to contest or amend records maintained in this system of records must direct their requests to the address indicated in the “RECORD ACCESS PROCEDURES” paragraph, above. All requests to contest or amend records must be in writing and the request should be clearly marked “Privacy Act Amendment Request.” All requests must state clearly and concisely what record is being contested, the reasons for contesting it, and the proposed amendment to the record. Some information may be exempt from the amendment provisions as described in the “EXEMPTIONS PROMULGATED FOR THE SYSTEM” paragraph, below. An individual who is the subject of a record in this system of records may contest or amend those records that are not exempt. A determination of whether a record is exempt from the amendment provisions will be made after a request is received.

More information regarding the Department's procedures for amending or contesting records in accordance with the Privacy Act can be found at 28 CFR 16.46, “Requests for Amendment or Correction of Records.”

NOTIFICATION PROCEDURES:

Individuals may be notified if a record in this system of records pertains to them. Notification requests should utilize the same procedures as those identified in the “RECORD ACCESS PROCEDURES” paragraph, above.

EXEMPTIONS PROMULGATED FOR THE SYSTEM:

None.

HISTORY:

None.

[FR Doc. 2018-18298 Filed 8-23-18; 8:45 a.m.]

BILLING CODE 4410-14-P